DEPARTMENT OF THE INTERIOR

Minerals Management Service

30 CFR Parts 218, 241, and 290

RIN 1010-AD22

Service of Official Correspondence

AGENCY: Minerals Management Service, Interior.

ACTION: Final rule.

SUMMARY: This rule will establish updated procedures for businesses to use when supplying the Minerals Management Service (MMS) with their control information. Because the existing rule contains obsolete procedures, MMS is not receiving updated contact information that it needs to be able to send important correspondence to companies.

DATES: Effective Date: November 29, 2006.

FOR FURTHER INFORMATION CONTACT: Sharron L. Gebhardt, Lead Regulatory Specialist, MRM, MMS, P.O. Box 25165, MS 302B2, Denver, Colorado 80225; telephone (303) 231-3211; FAX (303) 231-3781; e-mail sharron.gebhardt@mms.gov. The principal authors of this rule are Linda Lautigar and Lorraine Corona, Department of the Interior, MMS, MRM.

SUPPLEMENTARY INFORMATION:

I. Explanation of Rule Amendments

The MMS is amending existing regulations at 30 CFR parts 218, 241, and 290:

• To reflect current program procedures, such as appeal procedure information;

• To remove references to Forms MMS-4025, Oil and Gas Payor Information Form, and MMS-4030, Payor Information Form—Solid Minerals; and

• To revise nomenclature, such as replacing references to “Royalty Management Program” with “Minerals Revenue Management” or its abbreviation, MRM.

This rule will make the following changes:

• The titles of subchapter A and part 218 are revised.

• In part 218, subpart H—Service of Official Correspondence is added. In subpart B, section 290.111 is removed. (It is replaced by the new 218, subpart H—Service of Official Correspondence.) Subpart H revises addressee of record reporting requirements (currently found at 30 CFR 290.111) and requires companies to submit information designating a specific addressee of record for service of official correspondence on Form MMS-4444, Addressee of Record Designation for Service of Official Correspondence, rather than on forms no longer used. During the reengineering effort, MRM eliminated Forms MMS-4025 and MMS-4030, each of which contained addressee of record information, along with information no longer required. However, MRM still requires the addressee of record information, which is now submitted on Form MMS-4444 available at the MMS Web site http://www.mrm.mms.gov/ReportingServices/RepServhome.htm. This section also clarifies to whom the Form MMS-4444 is mailed.

• In part 241—Penalties, subpart B—Penalties for Federal and Indian Oil and Gas Leases, §§ 241.51 and 241.61 are revised in their entirety to conform with the addressee of record changes in parts 218 and 290.

In part 290—Appeal Procedures:

• The title of subpart B is changed from “Appeals of Royalty Management Program and Delegated State Orders” to “Minerals Revenue Management Appeal Procedures;” and

• Subpart B is amended to reflect current nomenclature and business practices.

Generally, the amendments to this rule are clear and self-explanatory and do not require additional information. However, we believe additional clarification is helpful regarding the request for contact information.

When MMS reengineered the financial system of the MRM program, one piece of the reengineering effort eliminated Forms MMS-4025 and MMS-4030, each of which contained addressee of record information. This rulemaking revises the previous addressee of record reporting requirements and removes current references to Forms MMS-4025 and MMS-4030. To collect the identifying information of “changes of address” for the addressee of record, MMS will use Form MMS-4444.

II. Procedural Matters

1. Public Comment Policy

Under the Administrative Procedure Act, 5 U.S.C. 553(b)(B), publication of a proposed rule and an opportunity for public comment are required before an agency promulgates a rule, except when the agency for good cause finds that notice and public comment are impracticable, unnecessary, or contrary to the public interest. This rule is purely clerical in nature. It simply updates procedures for providing contact and address information to MMS for service of official correspondence, revises existing MMS procedures to conform with those changes, eliminates references to forms that are no longer used, and revises nomenclature to reflect current organization names. Therefore, MMS has determined that notice and public comment are unnecessary.

2. Regulatory Planning and Review, Executive Order 12866

In accordance with the criteria in Executive Order 12866, this rule is not a significant regulatory action. The Office of Management and Budget (OMB) makes the final determination under Executive Order 12866.

a. This rule does not have an annual economic effect of $100 million or adversely affect an economic sector, productivity, jobs, the environment, or other units of government. A cost-benefit and economic analysis is not required. This rule is a simple technical amendment requiring contact information necessary in the normal course of business. It does not have an annual economic effect of $100 million or adversely affect an economic sector, productivity, jobs, the environment, or other units of government; and as such, a cost-benefit and economic analysis are not required. This rule provides a straightforward method to provide necessary contact information which is used in the normal course of usual and customary business practices.

b. This rule does not create inconsistencies with other agencies' actions. No other agency collects this particular contact information.

c. This rule does not materially affect entitlements, grants, user fees, loan programs, or the rights and obligations of their recipients. This rule is a technical amendment that only requires the submission of business contact information and has no further implications.

d. This rule does not raise novel legal or policy issues.

3. Regulatory Flexibility Act

The Department of the Interior certifies that this document will not have a significant economic effect on a substantial number of small entities under the Regulatory Flexibility Act (5 U.S.C. 601 et seq.).

Your comments are important. The Small Business and Agricultural Regulatory Enforcement Ombudsman and 10 Regional Fairness Boards were established to receive comments from small businesses about Federal agency enforcement actions. The Ombudsman will annually evaluate the enforcement activities and rate each agency's responsiveness to small business. You may comment to the Small Business Administration without fear of retaliation. Disciplinary action for retaliation by an MMS employee may include suspension or termination from employment with the Department of the Interior.

4. Small Business Regulatory Enforcement Fairness Act

This rule is not a major rule under 5 U.S.C. 804(2), the Small Business Regulatory Enforcement Fairness Act. This rule:

a. Does not have an annual effect on the economy of $100 million or more.

b. Does not cause a major increase in costs or prices for consumers, individual industries, Federal, State, or local government agencies, or geographic regions.

c. Does not have significant adverse effects on competition, employment, investment, productivity, innovation, or the ability of U.S.-based enterprises to compete with foreign-based enterprises.

5. Unfunded Mandates Reform Act

In accordance with the Unfunded Mandates Reform Act (2 U.S.C. 1501 et seq.):

a. This rule does not “significantly or uniquely” affect small governments. Therefore, a Small Government Agency Plan is not required.

b. This rule does not produce a Federal mandate of $100 million or greater in any year; i.e., it is not a “significant regulatory action” under the Unfunded Mandates Reform Act.

6. Governmental Actions and Interference With Constitutionally Protected Property Rights (Takings), Executive Order 12630

In accordance with Executive Order 12630, this rule does not have significant takings implications. A takings implication assessment is not required.

7. Federalism, Executive Order 13132

In accordance with Executive Order 13132, this rule does not have federalism implications. A federalism summary impact statement is not required. It will not substantially and directly affect the relationship between Federal and State governments. The management of Federal leases is the responsibility of the Secretary of the Department of the Interior. Royalties collected from Federal leases are shared with state governments on a percentage basis as prescribed by law. This rule does not alter any lease management or royalty-sharing provisions. This rule does not impose costs on states or localities.

8. Civil Justice Reform, Executive Order 12988

In accordance with Executive Order 12988, the Office of the Solicitor has determined that this rule does not unduly burden the judicial system and meets the requirements of §§ 3(a) and 3(b)(2) of the Order.

9. Paperwork Reduction Act of 1995

This rulemaking:

• Does not contain a current information collection, as defined by the Paperwork Reduction Act of 1995 (PRA);

• Does not change existing information collections; therefore, a submission to OMB is not needed; and

• Does not require a new information collection, based on the following exception in the regulations implementing the PRA at 5 CFR 1320.3(h):

“Information” does not generally include items in the following categories; however, OMB may determine that any specific item constitutes “information”: (1) Affidavits, oaths, affirmations, certifications, receipts, changes of address, consents or acknowledgments; provided that they entail no burden other than that necessary to identify the respondent, the date, the respondent's address, and the nature of the instrument * * * [Emphasis added.]

To collect the identifying information of “changes of address” for the addressee of record, MMS will use Form MMS-4444.

10. National Environmental Policy Act

This rule does not constitute a major Federal action significantly affecting the quality of the human environment. This rule deals with financial matters and has no direct effect on MMS decisions on environmental activities. According to Departmental Manual 516 DM 2.3A (2), Section 1.10 of 516 DM 2, Appendix 1 excludes from documentation in an environmental assessment or impact statement “policies, directives, regulations and guidelines of an administrative, financial, legal, technical or procedural nature; or the environmental effects of which are too broad, speculative or conjectural to lend themselves to meaningful analysis and will be subject later to the NEPA process, either collectively or case-by-case.” Section 1.3 of the same appendix clarifies that royalties and audits are considered to be routine financial transactions that are subject to categorical exclusion from the NEPA process. A detailed statement is not required because none of the NEPA exceptions apply.

11. Consultation With Indian Tribes (E.O. 13175)

Under the criteria in Executive Order 13175, we have evaluated this rule and determined that it has no potential effects on federally recognized Indian tribes.

12. Effects on the Nation's Energy Supply, Distribution, or Use, Executive Order 13211

In accordance with Executive Order 13211, this regulation does not have a significant adverse effect on the Nation's energy supply, distribution, or use. The primary purpose of this rule is to revise an existing rule regarding routine MMS operating business practices.

13. Government-to-Government Relationship With Tribes

In accordance with the President's memorandum of April 29, 1994, “Government-to-Government Relations with Native American Tribal Governments” (59 FR 22951) and 512 DM 2, we have evaluated potential effects on federally recognized Indian tribes and have determined that there are no potential effects.

List of Subjects in 30 CFR Parts 218, 241, and 290

Appeals, Official correspondence, Orders, Addressee of record, Notice of noncompliance, Notice of civil penalties.

Dated: August 15, 2006.
R.M. “Johnnie” Burton,
Acting Assistant Secretary for Land and Minerals Management.

For the reasons set forth in the preamble, subchapter A chapter II of title 30 of the Code of Federal Regulations is amended as follows:

CHAPTER II—MINERALS MANAGEMENT SERVICE, DEPARTMENT OF THE INTERIOR

Subchapter A—Minerals Revenue Management

1. Revise the heading for subchapter A to read as set forth above.

PART 218—COLLECTION OF ROYALTIES, RENTALS, BONUSES, AND OTHER MONIES DUE THE FEDERAL GOVERNMENT

2. The authority for part 218 continues to read as follows:

Authority: 25 U.S.C. 396 et seq., 396a et seq., 2101 et seq.; 30 U.S.C 181 et seq., 351 et seq., 1001 et seq., 1701 et seq.; 31 U.S.C. 3335; 43 U.S.C. 1301 et seq., 1331 et seq., and 1801 et seq.

3. Add a new subpart H to read as follows:

Subpart H—Service of Official Correspondence

Sec.
218.500 What is the purpose of this subpart?
218.520 What definitions apply to this subpart?
218.540 How does MMS serve official correspondence?
218.560 How do I submit Form MMS-4444?
218.580 When do I submit Form MMS-4444?

§ 218.500 What is the purpose of this subpart?

This subpart contains instructions for designating a specific addressee of record for service of official correspondence using Form MMS-4444, Addressee of Record Designation for Service of Official Correspondence.

§ 218.520 What definitions apply to this subpart?

Address of record is the address to which official correspondence is served.

Addressee of record for service of official correspondence is the person or position to whom official correspondence is served, as specified on Form MMS-4444, or in the absence of such a form, as established in § 218.540(b)(2). The addressee of record in a part 290, subpart B, appeal will be the person or representative making the appeal.

Official correspondence is all correspondence from MMS or our delegates, served on companies related to matters such as: forms reporting, audit and compliance, enforcement notices, rental courtesy notices, and invoices.

§ 218.540 How does MMS serve official correspondence?

MMS will serve all Notices of Noncompliance or Civil Penalty following the procedures in part 241. We will serve all other documents following the procedures in this section.

(a) Method of Service. MMS will serve all official correspondence to the addressee of record by one of the following methods:

(1) U.S. Postal Service mail;

(2) Personal delivery made pursuant to the law of the State in which the service is effected; or

(3) Private mailing service (e.g., United Parcel Service, or Federal Express), with signature and date upon delivery, acknowledging the addressee of record's receipt of the official correspondence document.

(b) Selection of addressee of record information. (1) We will address official correspondence to the party shown on the most recently received Form MMS-4444 for the type of correspondence at issue. The company or reporting entity is responsible for notifying MMS of any name or address changes on Form MMS-4444. The addressee of record in a part 290, subpart B, appeal will be the person or representative making the appeal.

(2) If we do not receive addressee of record information from you on Form MMS-4444, we may use the individual name and address, position title, or department name and address in our database, based on previous formal or informal communications or correspondence for the type of official correspondence at issue. Alternately, we may obtain contact information from public records and send correspondence to:

(i) The registered agent;

(ii) Any corporate officer; or

(iii) The addressee of record shown in the files of any State Secretary; Corporate Commission; Federal or state agency that keeps official records of business entities or corporations; or other appropriate public records for individuals, business entities, or corporations.

(c) Dates of service. Except as provided in paragraph (d) of this section, MMS considers official correspondence as served on the date that it is received at the address of record. A receipt, signed and dated by any person at that address, is evidence of service and of the date of service. If official correspondence is served in more than one manner and the dates differ, the date of the earliest service is used[smc1].

(d) Constructive service. If we cannot make delivery to the addressee of record after making a reasonable effort, we deem official correspondence as constructively served 7 days after the date that we mail the document. This provision covers situations such as those where no delivery occurs because:

(1) The addressee of record has moved without filing a forwarding address;

(2) The forwarding order has expired;

(3) Delivery was expressly refused; or

(4) The document was unclaimed and the attempt to deliver is substantiated by either:

(i) The U.S. Postal Service;

(ii) A private mailing service, as described in this section; or

(iii) The person who attempted to make delivery using some other method of service.

§ 218.560 How do I submit Form MMS-4444?

A copy of Form MMS-4444 and instructions may be obtained from MMS. It will also be posted on the MMS Web site. Submit the completed, signed form to the address designated on the Form MMS-4444 instructions.

§ 218.580 When do I submit Form MMS-4444?

Initially, you must submit MMS Form-4444 by November 29, 2006, and subsequently, within 2 weeks of any change of your address.

PART 241—PENALTIES

Subpart B—Penalties for Federal and Indian Oil and Gas Leases

4. The authority for part 241 continues to read as follows:

Authority: 25 U.S.C. 396 et seq., 396a et seq., 2101 et seq.; 30 U.S.C. 181 et seq., 351 et seq., 1001 et seq., 1701 et seq.; 43 U.S.C. 1301 et seq., 1331 et seq., and 1801 et seq.

5. In § 241.51, remove paragraph (c) and revise paragraph (b) to read as follows:

§ 241.51 What may MMS do if I violate a statute, regulation, order, or lease term relating to a Federal or Indian oil and gas lease?

* * * * *

(b) We will serve the Notice of Noncompliance by registered mail or personal service using your address of record as specified under subpart H of part 218.

6. Revise § 241.61 to read as follows:

§ 241.61 How will MMS inform me of violations without a period to correct?

We will inform you of any violation, without a period to correct, by issuing a Notice of Noncompliance and Civil Penalty explaining the violation, how to correct it, and the penalty assessment. We will serve the Notice of Noncompliance and Civil Penalty by registered mail or personal service using your address of record as specified under subpart H of part 218.

Subchapter C—Appeals

PART 290—APPEAL PROCEDURES

7. The authority citation for part 290 is revised to read as follows:

Authority: 5 U.S.C. 301 et seq.; 25 U.S.C. 396, 396a-396g, 2107; 30 U.S.C. 189, 190, 359, 1023, 1701 et seq., 1751(a); 31 U.S.C. 3716, 9701; 43 U.S.C. 1334, 1801 et seq.; and 44 U.S.C. 3506(a).

Subpart B—Minerals Revenue Management Appeal Procedures

8. The heading for subpart B is revised to read as set forth above.

9. Section 290.100 is revised to read as follows:

§ 290.100 What is the purpose of this subpart?

This subpart tells you how to appeal Minerals Management Service (MMS) or delegated State orders concerning reporting to the Minerals Revenue Management (MRM) and the payment of royalties and other payments due under leases subject to this subpart.

10. In § 290.102, in the introductory text of the definition of “order,” the first sentence is revised to read as follows:

§ 290.102 What definitions apply to this subpart?

* * * * *

Order, for purposes of this subpart only, means any document issued by the MMS Director, MMS MRM, or a delegated state that contains mandatory[smc2] or ordering language that requires the recipient to do any of the following for any lease subject to this subpart: report, compute, or pay royalties or other obligations, report production, or provide other information. * * *

* * * * *

§ 290.111 [Removed]

11. Section 290.111 is removed.

[FR Doc. E6-14368 Filed 8-30-06; 8:45 am]

BILLING CODE 4310-MR-P